DEPARTMENT OF ENERGY

Federal Energy Regulatory Commission

Combined Notice of Filings # 1

December 4, 2008.

Take notice that the Commission received the following electric corporate filings:

Docket Numbers: EC09-23-000.

Applicants: Shiloh Wind Project 2, LLC.

Description: Response to Staff Request for Additional Information and Request for Shortened Comment Period of Shiloh Wind Project 2, LLC.

Filed Date: 12/03/2008.

Accession Number: 20081203-5070.

Comment Date: 5 p.m. Eastern Time on Monday, December 15, 2008.

Take notice that the Commission received the following electric rate filings:

Docket Numbers: ER03-774-012.

Applicants: Eagle Energy Partners I, LP.

Description: Eagle Energy Partners I, L.P. Notice of Non-Material Change.

Filed Date: 12/01/2008.

Accession Number: 20081201-5121.

Comment Date: 5 p.m. Eastern Time on Monday, December 22, 2008.

Docket Numbers: ER06-739-014; ER08-649-005; ER07-501-010; ER06-738-014.

Applicants: Birchwood Power Partners, L.P.; EFS Parlin Holdings LLC, East Coast Power Linden Holding, LLC, Cogen Technologies Linden Venture, L.P.

Description: Birchwood Power Partners, LP et al. submits a combined triennial market power analysis.

Filed Date: 11/25/2008.

Accession Number: 20081202-0126.

Comment Date: 5 p.m. Eastern Time on Tuesday, December 16, 2008.

Docket Numbers: ER07-496-001; ER00-1372-004.

Applicants: Alcoa Power Marketing, Inc.; Alcoa Power Generating, Inc.

Description: Alcoa Power Generating, Inc. et al. submits a supplement to the 9/2/08 filing of the updated market power analysis.

Filed Date: 11/26/2008.

Accession Number: 20081202-0129.

Comment Date: 5 p.m. Eastern Time on Wednesday, December 17, 2008.

Docket Numbers: ER08-41-004.

Applicants: ISO New England Inc.

Description: ISO New England, Inc. et al. submits a report on a timetable for a stakeholder process to study modeling of internal transmission constraints and tie benefits associated with individual lines and develop proposals to resolve these issues.

Filed Date: 11/26/2008.

Accession Number: 20081203-0075.

Comment Date: 5 p.m. Eastern Time on Wednesday, December 17, 2008.

Docket Numbers: ER08-567-001.

Applicants: Southern California Edison Company.

Description: Southern California Edison Company submits an Amended and Restated Settlement Agreement with the City of Anaheim, which supersedes the Settlement Agreement filed on 8/4/08, to be effective 1/14/09.

Filed Date: 11/18/2008.

Accession Number: 20081121-0132.

Comment Date: 5 p.m. Eastern Time on Tuesday, December 09, 2008.

Docket Numbers: ER08-1323-001.

Applicants: Fowler Ridge Wind Farm LLC.

Description: Fowler Ridge Wind Farm LLC submits market-based power sales tariff designated as FERC Electric Tariff, Original Volume 1, Original Sheet 1-2.

Filed Date: 12/01/2008.

Accession Number: 20081204-0040.

Comment Date: 5 p.m. Eastern Time on Monday, December 22, 2008.

Docket Numbers: ER08-1423-001.

Applicants: PHI.

Description: PHI Companies et al. submits revised tariff sheets to the PJM Interconnection, LLC Open Access Transmission Tariff necessary to permit PHI Companies to recover the incentive rate treatments authorized by the Commission.

Filed Date: 12/01/2008.

Accession Number: 20081204-0041.

Comment Date: 5 p.m. Eastern Time on Monday, December 22, 2008.

Docket Numbers: ER09-315-001.

Applicants: Consolidated Edison Co. of New York, Inc.

Description: Consolidated Edison Company of New York, Inc. submits Notice of Cancellation of Service Agreement 8 for Wholesale Sales of Electricity at Market-Based Rates, FERC Electric Tariff, First Revised Volume 2 etc.

Filed Date: 11/25/2008.

Accession Number: 20081126-0125.

Comment Date: 5 p.m. Eastern Time on Tuesday, December 16, 2008.

Docket Numbers: ER09-343-000.

Applicants: SC Landfill Energy, LLC.

Description: SC Landfill Energy, LLC submits its Petition for Acceptance of FERC Electric Tariff, Waivers and Blanket Authorization.

Filed Date: 12/01/2008.

Accession Number: 20081204-0046.

Comment Date: 5 p.m. Eastern Time on Monday, December 22, 2008.

Docket Numbers: ER09-353-000.

Applicants: Consolidated Edison Co. of New York, Inc.

Description: Consolidated Edison Company of New York, Inc submits a notice of cancellation for one hundred eighty-four firm and non-firm transmission Service Agreements, pursuant to ConEdison's Open Access Transmission Tariff, etc.

Filed Date: 11/28/2008.

Accession Number: 20081202-0050.

Comment Date: 5 p.m. Eastern Time on Friday, December 19, 2008.

Docket Numbers: ER09-354-000.

Applicants: CAM Energy Trading LLC.

Description: CAM Energy Trading, LLC submits Notice of Cancellation of its market-based rate tariff, designated as Rate Schedule FERC 1 required by Order 614.

Filed Date: 12/01/2008.

Accession Number: 20081204-0042.

Comment Date: 5 p.m. Eastern Time on Monday, December 22, 2008.

Docket Numbers: ER09-355-000.

Applicants: Southwest Power Pool, Inc.

Description: Southwest Power Pool submits an executed Service Agreement for Network Integration Transmission Service between SPP as Transmission Provider and City of Prescott, Arkansas as Network Customer, etc.

Filed Date: 12/01/2008.

Accession Number: 20081204-0043.

Comment Date: 5 p.m. Eastern Time on Monday, December 22, 2008.

Docket Numbers: ER09-356-000.

Applicants: ISO New England Inc. and New England Power.

Description: ISO New England, Inc. et al. submits revisions to the Forward Capacity Market Rules.

Filed Date: 12/01/2008.

Accession Number: 20081204-0045.

Comment Date: 5 p.m. Eastern Time on Monday, December 22, 2008.

Docket Numbers: ER09-357-000.

Applicants: Portland General Electric Company.

Description: Portland General Electric Company request for waiver of Transmission Loading Relief-Eastern Interconnection standard developed by WEQ, etc. & submits revised tariff sheets to reflect the pending request for waiver for filing 11/26/08.

Filed Date: 11/26/2008.

Accession Number: 20081204-0038.

Comment Date: 5 p.m. Eastern Time on Wednesday, December 17, 2008.

Docket Numbers: ER09-358-000.

Applicants: National Grid Generation LLC.

Description: National Grid Generation LLC submits Original Sheet 91 et al. to its FERC Electric Rate Schedule 1, effective 1/15/09.

Filed Date: 12/01/2008.

Accession Number: 20081204-0039.

Comment Date: 5 p.m. Eastern Time on Monday, December 22, 2008.

Docket Numbers: ER09-359-000.

Applicants: Portland General Electric Company.

Description: Portland General Electric Co submits the General Transfer Agreement with Bonneville Power Administration.

Filed Date: 12/01/2008.

Accession Number: 20081204-0044.

Comment Date: 5 p.m. Eastern Time on Monday, December 22, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-30451 Filed 12-22-08; 8:45 am]

BILLING CODE 6717-01-P